DEPARTMENT OF TRANSPORTATION

Federal Aviation Administration

14 CFR Part 93

[Docket No. FAA-2008-0517; Amdt. No. 93-88]

RIN 2120-AJ28

Congestion Management Rule for John F. Kennedy International Airport and Newark Liberty International Airport; Correction

AGENCY: Federal Aviation Administration (FAA), DOT.

ACTION: Final rule; correcting amendment.

SUMMARY: The FAA is correcting a final rule published in the October 10, 2008, Federal Register. The final rule addressed congestion in the New York City area by assigning slots at John F. Kennedy (JFK) and Newark Liberty (Newark) International Airports in a way that allows carriers to respond to market forces to drive efficient airline behavior. The original rule incorrectly identified the date by which limited slots will revert to the FAA for auction. This rule corrects the date.

DATES: This correction will become effective on December 9, 2008.

FOR FURTHER INFORMATION CONTACT: Rebecca MacPherson, FAA Office of the Chief Counsel, 800 Independence Ave., SW., Washington, DC 20591; telephone (202) 267-3073; e-mail rebecca.macpherson@faa.gov.

SUPPLEMENTARY INFORMATION:

Background

On October 10, 2008 (73 FR 60544), the FAA published a final rule that will grandfather most of the existing operations at the airports. However, carriers will be required, for the first time, to purchase collectively approximately ten percent of the slots at each of the airports. There are no carve-outs or special provisions for new entrants or limited incumbents. This rule will improve the efficiency of the National Airspace System by forcing a market-based mechanism for establishing the value of slots. Under prevailing economic theory, once the true value of slots is assessed, carriers will make financial business decisions that would maximize the slots' use.

In the final rule, the FAA intended the initial reversion of slots for auction to take effect 30 days after the final rule's effective date, which would be January 8, 2009. This was the time period referenced in the final rule as approved by the Office of Management and Budget. The January 13, 2009 date published in the Federal Register reflects an incorrect time period of 35 days following the final rule effective date.

At present, the FAA intends to auction the initial slate of slots on or about January 12, 2009. While the slots revert to the FAA under the rule on January 8, 2009, the FAA is not required to conduct the auction on that date, and no carrier will lose the ability to operate any slot that meets the usage requirements of the John F. Kennedy (JFK) and Newark Liberty (Newark) International Airport Orders before October 25, 2009. Accordingly, this correction notice will have no practical impact on carriers operating at the airports.

Correction

In final rule FR Doc. E8-24046 published on October 10, 2008 (73 FR 65044), make the following correction.

§ 93.165 [Corrected]

On page 60569, in the third column, in § 93.165, paragraph (c), remove the date “January 13, 2009” and add in its place the date “January 8, 2009”.

Issued in Washington, DC, on November 3, 2008.
Pamela Hamilton-Powell,
Director, Office of Rulemaking.

[FR Doc. E8-26567 Filed 11-7-08; 8:45 am]

BILLING CODE 4910-13-P